DEPARTMENT OF THE INTERIOR

Fish and Wildlife Service

[FWS-HQ-FHC-2013-N012; FF09F21000-FXHC112509CBRA-134]

John H. Chafee Coastal Barrier Resources System; Delaware, North Carolina, South Carolina, Florida, and Texas; Availability of Draft Maps and Request for Comments

AGENCY: Fish and Wildlife Service, Interior.

ACTION: Notice of availability; request for comments.

SUMMARY: The Coastal Barrier Resources Act (CBRA) requires the Secretary of the Interior (Secretary) to review the maps of the John H. Chafee Coastal Barrier Resources System (CBRS) at least once every 5 years and make any minor and technical modifications to the boundaries of the CBRS as are necessary to reflect changes that have occurred in the size or location of any CBRS unit as a result of natural forces. We, the U.S. Fish and Wildlife Service (Service), have conducted this review for all of the CBRS units in Delaware, South Carolina (including one unit that crosses the State boundary into North Carolina), Texas, and one CBRS unit in Florida. The draft maps were produced by the Service in partnership with the Federal Emergency Management Agency (FEMA). This notice announces the findings of our review and request for comments on the draft revised maps from Federal, State, and local officials.

DATES: To ensure consideration, we must receive your written comments by September 30, 2013.

ADDRESSES: Mail or hand-deliver (during normal business hours) comments to Katie Niemi, Coastal Barriers Coordinator, Division of Budget and Technical Support, U.S. Fish and Wildlife Service, 4401 N. Fairfax Drive, Room 840, Arlington, VA 22203, or send comments by electronic mail (email) to CBRAcomments@fws.gov.

FOR FURTHER INFORMATION CONTACT: Katie Niemi, Coastal Barriers Coordinator, (703) 358-2071.

SUPPLEMENTARY INFORMATION: This notice fulfills a requirement under the CBRA (16 U.S.C. 3503(f)(3)) that requires the Secretary to publish a notice in the Federal Register of any proposed revisions to the CBRS authorized under 16 U.S.C. 3503(c)-(e). The CBRA requires the Secretary to review the maps of the CBRS at least once every 5 years and make any minor and technical modifications to the boundaries of the CBRS as are necessary to reflect changes that have occurred in the size or location of any CBRS unit as a result of natural forces (16 U.S.C. 3503(c)). Most of the modifications to the draft maps announced via this particular notice for Delaware, South Carolina (including one unit that crosses that State boundary into North Carolina), Texas, and one unit in Florida, were made to reflect changes to the CBRS units that occurred as a result of natural forces (e.g., erosion and accretion). However, one of the draft maps also includes a voluntary addition to the CBRS that was requested by the owners of the property. The CBRA authorizes the Secretary to add a parcel of real property to the CBRS if: (1) The owner of the parcel requests, in writing, that the Secretary add the parcel to the CBRS; and (2) the parcel is an undeveloped coastal barrier (16 U.S.C. 3503(d)). The CBRA also authorizes the Secretary to add excess Federal property to the CBRS following consultation with the Administrator of the U.S. General Services Administration and a determination that the property constitutes an undeveloped coastal barrier (16 U.S.C. 3503(e)). None of the draft maps announced via this particular notice for Delaware, South Carolina (including one unit that crosses that State boundary into North Carolina), Texas, and one unit in Florida, include additions of excess Federal property to the CBRS.

The Service's review resulted in a set of 87 draft revised maps dated November 30, 2012, depicting a total of 69 CBRS units. The set of maps includes: 7 Maps for 10 CBRS units located in Delaware; 24 maps for 23 CBRS units located in South Carolina (including 1 unit that crosses the State boundary into North Carolina); 55 maps for 35 CBRS units located in Texas; and 1 map for 1 CBRS unit located in both Pasco and Pinellas Counties, Florida. The Service found that 62 of the 69 units reviewed had experienced changes in their size or location as a result of natural forces since they were last mapped.

Background

Coastal barriers are typically narrow, elongated landforms located at the interface of land and sea and are inherently dynamic ecosystems. Coastal barriers provide important habitat for fish and wildlife, and serve as the mainland's first line of defense against the impacts of severe storms. With the passage of the CBRA in 1982 (Pub. L. 97-348), Congress recognized that certain actions and programs of the Federal Government have historically subsidized and encouraged development on coastal barriers, where severe storms are much more likely to occur, and the result has been the loss of natural resources; threats to human life, health, and property; and the expenditure of millions of tax dollars each year (16 U.S.C. 3501(a)).

The CBRA established the CBRS, which comprised 186 geographic units encompassing approximately 453,000 acres of undeveloped lands and associated aquatic habitat along the Atlantic and Gulf of Mexico coasts. The CBRS was expanded by the Coastal Barrier Improvement Act of 1990 (Pub. L. 101-591) to include additional areas along the Atlantic and Gulf of Mexico coasts, as well as areas along the coasts of the Great Lakes, the U.S. Virgin Islands, and Puerto Rico. The CBRS now comprises a total of 857 geographic units encompassing approximately 3.1 million acres of relatively undeveloped coastal barrier lands and associated aquatic habitat. These areas are depicted on a series of maps entitled “John H. Chafee Coastal Barrier Resources System.”

Most new Federal expenditures and financial assistance that have the effect of encouraging development are prohibited within the CBRS. However, development can still occur within the CBRS, provided that private developers or other non-Federal parties bear the full cost, rather than the American taxpayers.

The CBRS includes two types of units, System Units and Otherwise Protected Areas (OPAs). System Units generally comprise private lands that were relatively undeveloped at the time of their designation within the CBRS. Most new Federal expenditures and financial assistance, including Federal flood insurance, are prohibited within System Units. OPAs generally comprise lands established under Federal, State, or local law, or are held by a qualified organization primarily for wildlife refuge, sanctuary, recreational, or natural resource conservation purposes. OPAs are denoted with a “P” at the end of the unit number (e.g., DE-01P). The only Federal spending prohibition within OPAs is the prohibition on Federal flood insurance.

The Secretary, through the Service, is responsible for administering the CBRA, which includes maintaining the official maps of the CBRS, consulting with Federal agencies that propose to spend funds within the CBRS, preparing updated maps of the CBRS, and making recommendations to Congress regarding proposed changes to the CBRS. Aside from three minor exceptions, only Congress—through new legislation—can modify the maps of the CBRS to add or remove land. These exceptions, which allow the Secretary to make limited modifications to the CBRS (16 U.S.C. 3503(c)-(e)), are for: (1) Changes that have occurred to the CBRS as a result of natural forces; (2) voluntary additions to the CBRS requested by property owners; and (3) additions of excess Federal property to the CBRS.

Digital Conversion of the CBRS Maps

Official CBRS boundaries are depicted on maps adopted by Congress. The boundaries have also been identified on the Flood Insurance Rate Maps (FIRMs) produced by FEMA with varying degrees of accuracy. The FIRMs are used to determine flood insurance eligibility and rates through the National Flood Insurance Program. The CBRS boundaries are shown on the FIRMs because of the CBRA's restriction on Federal flood insurance within the CBRS.

Since 2006, the Service and FEMA have collaborated to improve the accuracy of the CBRS boundaries depicted on the FIRMs. In 2011, this interagency partnership was expanded to help facilitate a “digital conversion” of the official CBRS maps. The purpose of the digital conversion effort is to:

(1) Ensure that the CBRS boundaries depicted on the FIRMs are consistent with the CBRS boundaries depicted on the official CBRS maps;

(2) Update the CBRS maps to account for natural changes and to incorporate any voluntary additions and excess Federal property within the CBRS; and

(3) Replace the entire set of CBRS maps at a lower cost and in a timelier manner than would be possible via comprehensive map modernization (“comprehensive map modernization” is the type of mapping mandated by section 4 of Public Law 109-226 and described in the Service's 2008 Report to Congress: John H. Chafee Coastal Barrier Resources System Digital Mapping Pilot Project). See additional information concerning comprehensive map modernization at the end of this section.

The timeframe for updating the CBRS maps for particular areas through the digital conversion effort is determined by the Service and FEMA, taking into consideration other ongoing mapping efforts in order to maximize efficiencies and minimize costs. The digital conversion effort improves the accuracy, integrity, and usability of the CBRS data and maps, which increases compliance with the CBRA by reducing erroneous Federal expenditures (including invalid flood insurance policies) within the CBRS, and improves government efficiency and customer service by providing more reliable and user-friendly CBRS maps and digital data.

Through the digital conversion effort, the existing CBRS boundaries will be:

(1) Transferred and fitted to updated base maps (i.e., a recent aerial image) to ensure that the boundaries correspond with the natural or development features they are clearly intended to follow on the official maps (such adjustments will generally be within the width of the existing CBRS boundary, which is about 100 feet on the Earth's surface);

(2) Modified to reflect any natural changes that have occurred since the maps were last updated and to incorporate any voluntary additions and excess Federal property within the CBRS; and

(3) In limited circumstances, modified to correct administrative errors made in the past either in (a) the transcription of the boundaries from maps that were reviewed and approved by Congress to the official CBRS maps on file with the Service or (b) the inclusion of unqualifying areas to the CBRS through a map modification to account for natural changes under 16 U.S.C. 3503(c).

In reviewing the CBRS maps for Delaware, South Carolina (including the unit that crosses into North Carolina), Texas, and one unit in Florida, the Service found that most of these areas (62 of the 69 CBRS units reviewed) had experienced some level of natural change since they were last remapped.

Changes to the CBRS boundaries through digital conversion are limited to the administrative modifications the Secretary is authorized to make under the CBRA (16 U.S.C. 3503(c)-(e)) and limited modifications needed to correct transcription errors between the boundaries approved by Congress in the past and those depicted on the official CBRS maps on file with the Service. Changes that are outside the scope of this authority cannot be made through the digital conversion process; such changes must be made through the comprehensive map modernization process, which is more time and resource intensive because it entails significant research, public review, and Congressional enactment of the revised maps. Comprehensive map modernization not only transfers the CBRS boundaries to a new base map and makes any modifications necessary to account for natural changes, but also corrects errors that affect property owners and adds areas appropriate for inclusion to the CBRS (beyond those additions authorized under 16 U.S.C. 3503(c)-(e)). The Coastal Barrier Resources Reauthorization Act of 2006 (Section 4 of Pub. L. 109-226) directs the Secretary to produce comprehensively revised maps for the entire CBRS. The Service has produced a limited number of comprehensively revised maps for Congressional consideration in the past and will continue to produce comprehensively revised maps as resources are made available for that effort.

CBRS Digital Conversion Methodology

Below is a summary of the methodology the Service used to conduct a review of the CBRS units to identify areas where natural change has occurred and to produce draft revised maps through the digital conversion process.

Base Map Selection

A base map is a map depicting background reference information such as landforms, roads, landmarks, and political boundaries, onto which other thematic information is placed. In an effort to ensure consistency between the CBRS boundaries depicted on the official CBRS maps and the FEMA FIRMs, the Service generally selected the same underlying base map as the base map used by FEMA for the FIRM. In some cases, the FIRM base map was not suitable for CBRS mapping (e.g., when the FIRM base map was vector based instead of an aerial image or did not provide complete coverage over remote coastal barrier features). In such cases, the Service selected aerial imagery to serve as the CBRS base map that was recent (generally less than 5 years old), high resolution (1 meter per pixel resolution or better), orthorectified (i.e., adjusted to ensure the proper perspective of features relative to their true position on the Earth's surface), and available free of charge.

Georeferencing and Boundary Interpretation

CBRS boundaries are generally intended to follow natural and development features on the ground, such as shorelines, stream channels, edges of marshes or wetlands, roads, and jetties. The CBRS boundaries must be fit to these same features on the new base map through a process of boundary interpretation and transcription. Prior to transcribing the CBRS boundaries to the new base map, scanned versions of all currently controlling and superseded CBRS maps for the affected areas were georeferenced (i.e., aligned to a known geographic coordinate system) to the new base map and analyzed to determine the original intent of the CBRS boundaries. The Service also consulted the 1982 and 1994 CBRS Photographic Atlases (a set of aerial photographs maintained by the Service with the CBRS unit boundaries overlaid) and other sources to aid in boundary interpretation.

Boundary Transcription

The original base maps used for the official CBRS maps are, in most cases, U.S. Geological Survey (USGS) 7.5-minute topographic quadrangle maps (i.e. maps from a commonly used series published by USGS, generally at a scale of 1:24,000) dated 1990 or earlier. The USGS maps were designed to meet the United States National Map Accuracy Standards which define accuracy standards for published maps, including horizontal and vertical accuracy (National Map Accuracy Standards are available for download at http://nationalmap.gov/standards/nmas.html). The horizontal accuracy standard requires at least 90 percent of the “well-defined points” (e.g., property boundary monuments, intersections of roads, corners of large buildings, etc.) tested to be accurate to 1/50 of an inch on the map, which translates to 40 feet on the ground (using a 1:24,000 scale map). However, most CBRS boundaries follow features (e.g., shorelines, vegetative breaks, and mangrove stands) that are dynamic and/or do not meet the definition of “well-defined points” and, therefore, may have a degree of horizontal error greater than 40 feet. As such, the CBRS boundaries have inherited the underlying base map's level of error in horizontal accuracy.

Compounding the problems associated with the outdated base maps is the fact that the CBRS boundaries were hand drawn on the base maps using now antiquated cartographic techniques. System unit boundaries were manually drawn on the maps with a thick pen, and the OPA boundaries were delineated using strips of cartographic drafting tape affixed directly onto the base maps. The use of strips of tape to represent curving features such as shorelines on large scale maps contributed to the inaccuracy of the OPA boundaries. These now outdated manual techniques for delineating the CBRS boundary lines resulted in a boundary thickness that translates to about 100 feet on the Earth's surface. Additionally, in some cases, the boundary lines contain gaps that were left intentionally so that annotation on the base maps would not be obscured.

Due to the dynamic nature of coastal areas, the age and relative inaccuracy of the original base maps, and the manual cartographic techniques used to create the current set of official CBRS maps, the Service has found that digitizing the center of the boundary from the georeferenced CBRS map and placing it on the new base map often yields discrepancies between the CBRS boundaries and the features they are clearly intended to follow on the ground. Therefore, the Service evaluated the intent of each segment of CBRS boundary and fit the boundary to the new base map according to the following general guidelines:

• If the intent of a particular boundary segment was clearly to follow an identifiable natural or development feature, the digital boundary was adjusted to the appropriate feature on the new base map. The extent of such adjustments was generally limited to the width of the existing boundary line depicted on the official map (which translates to about 100 feet on the Earth's surface).

• If the intent of a particular boundary segment could not be determined; if the underlying feature had clearly undergone human-generated change; or if the boundary line on the official map is generally more than 100 feet from the actual feature it was intended to follow on the ground, no adjustments were made and the center of the georeferenced boundary was used. These types of changes are beyond the scope of the digital conversion effort and require further review through the comprehensive map modernization effort that is described earlier in this notice.

• If clear and compelling evidence was found (through the course of the normal boundary review and interpretation process) that the boundary on the official CBRS map reflected a minor transcription error that was made after the original draft maps were reviewed and approved by Congress in past years, that error was corrected.

Additional information concerning the horizontal accuracy and other challenges associated with the existing CBRS maps and boundaries is available in the CBRS boundary metadata posted on the Service's Internet site at http://www.fws.gov/cbra/Maps/CBRS-Metadata.xml and in the Service's 2008 Report to Congress: John H. Chafee Coastal Barrier Resources System Digital Mapping Pilot Project.

Boundary Modifications To Account for Natural Changes, Voluntary Additions, and Additions of Excess Federal Property

The Service assessed the official CBRS maps, as well as historical and current aerial imagery, to determine where natural changes (e.g., eroded shorelines, accreted sand spits, changes in the configuration of the wetlands, etc.) have occurred since the maps were last updated. Where the intent of a boundary segment was clearly to follow a geomorphic feature on the ground, and that feature had undergone natural change, the boundary on the map was modified to follow the present location of the geomorphic feature and/or the aquatic habitat associated with the feature. Associated aquatic habitat may include the adjacent wetlands, marshes, estuaries, inlets, and nearshore waters associated with the fastland component of the coastal barrier. The term “fastland” refers to the portion of a coastal barrier between the mean high tide line on the ocean side, and the upper limit of tidal vegetation (or, if such vegetation is not present, the mean high tide line) on the landward side of the coastal barrier. In many cases, portions of the landward boundary were modified to reflect natural changes to the wetland/fastland interface. The “wetland/fastland interface” is a transitional area between wetlands and fastlands, or land that is predominately wet and land that is predominately dry. This interface was identified for CBRS mapping purposes through aerial photo interpretation, supported in some cases by National Wetlands Inventory data (http://www.fws.gov/wetlands).

The CBRS boundaries were also modified to account for any other administrative changes that are authorized by the CBRA (i.e., inclusion of voluntary additions and excess Federal property).

Map Paneling

Each official CBRS map covers a spatial extent roughly equivalent to one USGS 7.5-minute topographic quadrangle; this spatial extent is referred to as a “map panel.” There are many places where the existing CBRS map panels overlap each other, yet provide no indication that there is another CBRS unit in the same area that is shown on a different map panel. This omission is a source of confusion for users who assume that if no CBRS unit is depicted on a specific CBRS map, then there is no CBRS unit in that area. The Service addressed this issue by repaneling the affected areas using one of the following two options.

Option 1: The existing map panels were shifted and/or combined to eliminate overlaps, and all CBRS units on a given map panel were depicted. For example, Harbor Island Unit M11 and Hunting Island Unit SC-09P in South Carolina are adjacent to one another and share a coincident boundary, but are currently shown on two separate official maps. As a result of this review, these two maps were combined into a single map depicting both units. Also, Waites Island Complex Unit M01 is currently considered to be two distinct units with the same name, one in North Carolina and one in South Carolina, and these units are depicted individually on two separate maps. As a result of this review, the two units were combined, counted as one unit, and depicted on a single map.

Option 2: Due to time constraints, many maps included in this review were not repaneled. In these cases, the adjacent unit(s) that are not the subject of the map are shown for informational purposes with a note indicating that there is a separate map for the adjacent unit(s).

In future projects, the Service will generally follow the first option above to eliminate as many map panel overlaps as possible. Changes to the configuration of the CBRS map panels do not affect the placement of the CBRS boundaries, but will help reduce confusion and improve the usability of the CBRS maps.

Proposed Modifications to the CBRS Boundaries

In accordance with the CBRA's requirement to update the CBRS maps at least once every 5 years to account for natural changes, the Service has prepared draft revised maps for all CBRS units in Delaware, South Carolina (including a unit that crosses into North Carolina), Texas, and one unit in Florida. These draft maps are dated November 30, 2012. The Service's review of these areas found a total of 62 CBRS units that require modifications due to natural changes in the size or location of the units. Below is a summary of those changes depicted on the draft maps. The summary also identifies one voluntary addition to the CBRS requested by the owners of a property in Horry County, South Carolina (in accordance with 16 U.S.C. 3503(d)) and the correction of a transcription error that was made in 1990 on one map in Galveston County, Texas.

Following the close of the comment period on the date listed in the DATES section of this document, the Service will review all comments received from Federal, State, and local officials on the draft maps; make adjustments to the draft maps, as appropriate; and publish a notice in the Federal Register to announce the availability of the final revised maps.

Delaware

The Service's review found all 10 of the CBRS units in Delaware to have changed due to natural forces.

DE-01: LITTLE CREEK UNIT. The landward boundary of the unit has been modified to reflect natural changes that have occurred in the configuration of the marsh and wetland/fastland interface. The boundary has also been modified to reflect channel migration along Lewis Ditch. The seaward boundary of the excluded area was modified to account for shoreline erosion along the Delaware Bay.

DE-01P: LITTLE CREEK UNIT. The landward boundary of the unit has been modified to reflect natural changes that have occurred in the configuration of the marsh and wetland/fastland interface. The boundary has been modified to reflect channel migration and erosion along Kellys Ditch, Lewis Ditch, and several small unnamed creeks. The boundary has also been modified to account for erosion at the mouth of the St. Jones River.

DE-02P: BEACH PLUM ISLAND UNIT. The landward boundary of the unit has been modified to reflect natural changes that have occurred in the configuration of the marsh and wetland/fastland interface. The boundary has also been modified to account for channel migration and erosion along Broadkill River, Doty Glade, Old Mill Creek, and Canary Creek. The name of this unit has been changed from “Plum Beach Island” to “Beach Plum Island” to correctly identify the underlying barrier feature.

DE-03P: CAPE HENLOPEN UNIT. The boundary of the unit has been modified to account for erosion along the Lewes and Rehoboth Canal, as well as erosion and channel migration of an unnamed stream.

DE-06: SILVER LAKE UNIT. The landward boundary of the unit has been modified to account for erosion and accretion along the shoreline of Silver Lake.

DE-07P: DELAWARE SEASHORE UNIT. The boundary of the unit has been modified to account for shoreline erosion at the tip of Cedar Neck.

DE-08P: FENWICK ISLAND UNIT. The landward boundary of the unit has been modified to account for erosion and channel migration along Miller Creek and an unnamed stream. The landward boundary has also been modified to account for marsh erosion along the western shoreline of Little Assawoman Bay.

H00: BROADKILL BEACH UNIT. The landward boundary of the unit has been modified to reflect natural changes that have occurred in the configuration of the marsh and wetland/fastland interface. The boundary has also been modified to account for channel migration and erosion along the Murderkill River, Brockonbridge Gut, Mispillion River, Cedar Creek, Primehook Creek and several small unnamed streams. The seaward boundary of the excluded area has been modified to account for shoreline erosion along Delaware Bay.

H00P: BROADKILL BEACH UNIT. The landward boundary of the unit has been modified to reflect natural changes that have occurred in the configuration of the marsh and wetland/fastland interface. The boundary has also been modified to account for channel migration and erosion along Brockonbridge Gut, Mispillion River, Broadkill River, and several small unnamed streams.

H01: NORTH BETHANY BEACH UNIT. The landward boundary of the unit has been modified to account for erosion and channel migration of an unnamed stream.

South Carolina

The Service's review found all 23 of the CBRS units in South Carolina (including one unit, M01, that crosses the State boundary into North Carolina) to have changed due to natural forces.

M01: WAITES ISLAND COMPLEX. The boundary of the unit has been modified to reflect natural changes that have occurred in the configuration of the marsh, wetland/fastland interface, and the location of House Creek, Little River, the Intracoastal Waterway, a small unnamed creek, and Hog Inlet. Due to the dynamic nature of the adjacent barrier to the south of the unit, the southern lateral boundary has been generalized and placed generally at the southern side of Hog Inlet. The South Carolina and North Carolina segments of this unit have been combined into a simple map for simplicity and clarity.

M02: LITCHFIELD BEACH UNIT. The landward boundary of the unit has been modified to account for channel migration along Clubhouse Creek, wetlands loss, and the accretion of the Litchfield Beach sand spit and associated shoals.

M03: PAWLEYS INLET UNIT. The boundary of the unit has been modified to include emergent marsh, account for channel migration at the north end of the unit, and reflect natural changes to the wetland/fastland interface on the landward side of the unit.

M04: DEBIDUE BEACH UNIT. The boundary of the unit has been modified to account for channel migration along Debidue and Jones Creeks. The boundary has been modified to reflect natural changes to the wetland/fastland interface on the landward side of the unit, and to keep all of North Island in the adjacent unit to the south (Unit SC-04).

M05: DEWEES ISLAND COMPLEX. The boundary of the unit has been modified to account for natural changes in the wetlands and channel migration along Whiteside Creek, Dewees Creek, and Capers Inlet. The boundary has been modified to reflect natural changes to the wetland/fastland interface on the mainland as well as along the northern side of Dewees Island.

M06: MORRIS ISLAND COMPLEX. Portions of the unit's landward boundary have been modified to account for natural changes to the wetlands/fastland interface. The boundary has been modified to address channel migration and wetlands loss along Folly Creek, Rat Island Creek, and several other minor channels. The boundary has been modified to account for erosion at the tip of the sand spit on the northern end of Folly Island. Several portions of the boundary have been generalized where the underlying features that the boundary originally followed (e.g., wetlands and minor channels) no longer exist and suitable substitutes were not identified.

M07: BIRD KEY COMPLEX. Portions of the unit's boundary have been modified to account for channel migration along Folly River, Stono River, and Bass Creek. Portions of the landward boundary have been modified to reflect natural changes to the wetland/fastland interface. Several portions of the boundary have been generalized where the underlying features that the boundary originally followed (e.g., wetlands and minor channels) no longer exist and suitable substitutes were not identified.

M07P: BIRD KEY COMPLEX. Portions of the unit's boundary have been modified slightly to account for channel migration along Folly River.

M08: CAPTAIN SAMS INLET UNIT. The eastern boundary of the unit has been modified to account for channel migration along Kiawah River and Captain Sams Creek. The landward boundary has been modified to address natural changes to the wetland/fastland interface.

M09: EDISTO COMPLEX. The boundary of the unit has been modified to account for channel migration along North Edisto River, Ocella Creek, and Jeremy Inlet. The landward boundary has been modified to reflect natural changes to the wetland/fastland interface. The offshore boundary has been extended to clarify the inclusion of Deveaux Bank within the unit.

M09P: EDISTO COMPLEX. The boundary of the unit has been modified to account for channel migration along Jeremy Inlet and Scott Creek.

M10: OTTER ISLAND UNIT. The boundary of the unit has been modified to account for channel migration along South Edisto River and Two Sisters Creek. The boundary has been modified to reflect natural changes in the wetland/fastland interface.

M11: HARBOR ISLAND UNIT. The boundary of the unit has been modified to account for erosion and wetlands loss along Harbor River and Ward Creek and to remove a portion of Harbor Island, which has accreted into the unit but was intended to be excluded. The boundary has been modified to reflect natural changes in the wetland/fastland interface.

M12: ST. PHILLIPS ISLAND UNIT. The boundary of the unit has been modified to account for channel migration, wetlands loss, and spit accretion along Skull Creek and Skull Inlet. The boundary has been modified to account for channel migration along Story River and an unnamed tributary. The landward boundary has been modified to reflect natural changes to the wetland/fastland interface.

M13: DAUFUSKIE ISLAND UNIT. The northern lateral boundary of the unit has been moved northward to account for an accreting sand spit and associated shoals. The boundary has been modified to address channel migration along Mungen Creek, New River, and an unnamed stream.

SC-01: LONG POND UNIT. A segment of the boundary in the northern portion of the unit has been modified to account for channel migration and erosion. The portions of the Meher Spiritual Center that were not already within the unit have been added based on a voluntary addition request made by the owners of the property to the Secretary of the Interior.

SC-03: HUNTINGTON BEACH UNIT. The northern boundary of the unit along Main Creek has been modified to account for natural changes at the southern tip of Garden City Beach north of Murrells Inlet. Portions of the boundary have been modified to account for channel migration along Oaks Creek and natural changes that have occurred in the configuration of the wetland/fastland interface.

SC-04: NORTH/SOUTH ISLANDS UNIT. The boundary of the unit has been modified to account for natural changes in the wetland/fastland interface and channel migration in North Santee Bay. The boundary has been modified to keep all of North Island and South Island, which had both been accreting into adjacent units, in Unit SC-04.

SC-05P: SANTEE UNIT. The boundary of the unit has been modified to account for channel migration along North Santee Bay and the South Santee River. The landward boundary has been modified to reflect natural changes to the wetland/fastland interface. A portion of Cape Island has accreted out of adjacent Unit SC-06P and into Unit SC-05P, but because it is unclear whether this portion of the coincident boundary between the two units is based on an established property boundary, the boundary has not been modified.

SC-06P: CAPE ROMAIN UNIT. The boundary of the unit has been modified to reflect natural changes to the wetland/fastland interface. It has been modified to address channel migration and wetlands loss along Bull Narrows, Price Creek, and several other minor channels. A portion of Cape Island has accreted out of Unit SC-06P and into adjacent Unit SC-05P, but because it is unclear whether this portion of the coincident boundary between the two units is based on an established property boundary, the boundary has not been modified.

SC-07P: CAPERS ISLAND UNIT. The landward boundary of the unit has been modified to reflect natural changes to the wetland/fastland interface. The boundary has been modified to account for channel migration and wetlands loss along Bull Narrows, Price Creek, Whiteside Creek, Capers Inlet, and several other minor channels.

SC-09P: HUNTING ISLAND UNIT. The boundary of the unit has been modified to account for erosion and wetlands loss along Harbor River, and channel migration in the unnamed channel upstream of Fripps Inlet.

SC-10P: TURTLE ISLAND UNIT. The boundary has been modified to account for channel migration along New River, Wright River, and Walls Cut.

Texas

The Service's review found 28 of the 35 CBRS units in Texas to have changed due to natural forces.

T02A: HIGH ISLAND UNIT. The boundary of the unit has been modified to reflect natural changes to the southern edge of the Intracoastal Waterway.

T03A: BOLIVAR PENINSULA UNIT. The boundary of the unit has been modified to reflect natural changes in the configuration of the wetlands on and around the Bolivar Peninsula and along the Intracoastal Waterway. A small overwash fan has been added to the southern segment of the unit. Additionally, the excluded area of the southern segment of the unit and a portion of the southwestern boundary of the southern segment of the unit were modified (by approximately 80 feet and 230 feet respectively) to correct an error in transcription of the boundary from the draft map that was reviewed and approved by Congress to the official map dated October 24, 1990, for this unit. This area was correctly depicted on the original 1982 official map for Unit T03A as well as the draft map for Unit T03A contained the Service's 1988 Report to Congress: Volume 19, Texas (North Coast). This correction is supported by an assessment of the historical maps for this area as well as the legislative history of the Coastal Barrier Improvement Act of 1990 (Pub. L 101-591).

T03AP: BOLIVAR PENINSULA UNIT. A portion of the boundary at the southwestern end of the unit has been modified to reflect natural changes along the Gulf-fronting shoreline near Port Bolivar.

T04: FOLLETS ISLAND UNIT. The boundary of the unit has been modified to account for natural changes to the landward side of Follets Island, the southern side of the Intracoastal Waterway, and the configuration of the wetlands along Mud Island. The seaward boundaries of the excluded areas have been modified to account for erosion along the Gulf-fronting shoreline of Follets Island.

T04P: FOLLETS ISLAND UNIT. The boundary of the unit has been modified to account for natural changes to the landward side of Follets Island, the southern side of the Intracoastal Waterway, and the configuration of the wetlands along Mud Island.

T05: BRAZOS RIVER COMPLEX. The boundary of the unit has been modified to account for natural changes along the southern edge of the Intracoastal Waterway. The boundary of the southern segment of the unit located landward of the Intracoastal Waterway has been modified in some places to reflect natural changes to the wetlands and the eastern edge of the San Bernard River.

T05P: BRAZOS RIVER COMPLEX. Portions of the landward boundary at the northern end of the unit have been modified to account for natural changes to the southern edge of the Intracoastal Waterway.

T06: SARGENT BEACH UNIT. Portions of the unit's boundary have been modified to account for wetlands loss and to follow the northern edge of the barrier located to the south of the Cedar Lakes. The coincident boundary between Units T06 and T06P has been generalized in places where the configuration of the barrier feature has changed. The lateral portion of the coincident boundary between the two units has not been modified, because it is unclear whether that portion of the boundary is based on an established property boundary.

T06P: SARGENT BEACH UNIT. Portions of the landward boundary at the northern end of the unit have been modified to account for natural changes to the southern edge of the Intracoastal Waterway. Portions of the boundary have been modified to account for wetlands loss and to follow the northern edge of the barrier located to the south of the Cedar Lakes. The coincident boundary between Units T06 and T06P has been generalized in places where the configuration of the barrier feature has changed. The lateral portion of the coincident boundary between the two units has not been modified, because it is unclear whether that portion of the boundary is based on an established property boundary.

T07: MATAGORDA PENINSULA UNIT. The coincident boundary between Units T07 and T07P has been generalized, in order to account for natural changes to the edge of the wetlands and the shoreline on the landward side of the Matagorda Peninsula and a strip of spoil islands behind the peninsula along the Intracoastal Waterway. These boundaries have been generalized because of the highly dynamic nature of the barrier. Wetlands located to the west of the Colorado River on the landward side of the unit were added to the unit. An historic inlet towards the southern end of the Matagorda Peninsula that has closed since the map was last updated has been reclassified from T07P (an otherwise protected area) to T07 (a System unit).

T07P: MATAGORDA PENINSULA UNIT. The coincident boundary between Units T07 and T07P has been generalized, in order to account for natural changes to the edge of the wetlands and the shoreline on the landward side of the Matagorda Peninsula and strip of spoil islands behind the peninsula along the Intracoastal Waterway. These boundaries have been generalized because of the highly dynamic nature of the barrier. Wetlands around the mouth of a channel that empties into Matagorda Bay (located just west of the Colorado River) have been added to the unit. An historic inlet towards the southern end of the Matagorda Peninsula that has closed since the map was last updated has been reclassified from T07P (an otherwise protected area) to T07 (a System unit).

T08: SAN JOSE ISLAND COMPLEX. The coincident boundaries between Units T08 and TX-06P and between Units T08 and T08P have been modified to account for natural changes along certain channels within the wetlands on the landward side of Matagorda Island, along the edge of the wetlands behind Matagorda Island and San Jose Island, and along the shoreline of the barrier. An historic inlet at Cedar Bayou between San Jose Island and Matagorda Island that has closed since the map was last updated has been reclassified from T08P (an otherwise protected area) to T08 (a System unit).

T08P: SAN JOSE ISLAND COMPLEX. The landward boundary of most of the unit has been modified to account for natural changes along the southern edge of the Intracoastal Waterway. The coincident boundaries between Units T08P and TX-06P and between Units T08P and T08 have been modified to account for natural changes along certain channels within the wetlands on the landward side of Matagorda Island, along the edge of the wetlands behind Matagorda Island and San Jose Island, and along the shoreline of the barrier. An historic inlet at Cedar Bayou between San Jose Island and Matagorda Island that has closed since the map was last updated has been reclassified from T08P (an otherwise protected area) to T08 (a System unit).

T11, T11P: SOUTH PADRE ISLAND UNIT. The coincident boundary between Units T11 and T11P has been modified in some places to better follow a break between the Laguna Madre and South Padre Island that is visible on the base imagery.

T12: BOCA CHICA UNIT. Portions of the boundary of the unit have been modified to account for natural changes to the wetland/fastland interface as visible on the base imagery. The northern boundary of the unit has been modified to account for natural changes to the shoreline. Two narrow strips that were not included in the original unit were added to the southwestern portion of the unit. These strips include both wetlands and fastlands that are not connected to the mainland and are part of the barrier system. The boundary along the mouth of the Rio Grande has been moved northward to account for erosion of the barrier on the U.S. side of the river and accretion of the barrier on the Mexico side.

T12P: BOCA CHICA UNIT. Portions of the western boundary of the southern segment of the unit have been modified to reflect natural changes to the wetland/fastland interface as visible on the base imagery.

TX-02P: MCFADDIN UNIT. The boundary of the unit has been modified to reflect natural changes to the southern edge of the Intracoastal Waterway and to the northern shoreline of Star Lake.

TX-04, TX-04P: SWAN LAKE UNIT. The coincident boundary between the units has been generalized due to the erosion of the underlying barrier feature in Swan Lake that it was originally following. The landward boundary of both units has been modified to reflect natural changes in the wetland/fastland interface and the shoreline.

TX-06P: MATAGORDA ISLAND UNIT. The landward boundary of most of the unit has been modified to account for natural changes along the southern edge of the Intracoastal Waterway. The coincident boundaries between Units TX-06P and T08P and between Units TX-06P and T08 at the southern end of the unit have also been modified due to natural changes along certain channels within the wetlands on the landward side of Matagorda Island.

TX-09: COON ISLAND BAY UNIT. Portions of the landward boundary of the unit have been modified to account for natural changes to the wetland/fastland interface and the shoreline.

TX-10: SHELL BEACH UNIT. Portions of the landward boundary of the unit have been modified to account for natural changes to the wetland/fastland interface. An area of wetlands along the northern lateral boundary was added to the unit.

TX-15P: MUSTANG ISLAND UNIT. Portions of the southern boundary of the unit located to the northwest of Packery Channel Park have been modified to account for natural changes to the wetland/fastland interface. Another portion of the southern part of the boundary has been modified to follow the western edge of Packery Channel.

TX-17, TX-17P: SHAMROCK ISLAND UNIT. The coincident boundary between TX-17 and TX-17P has been generalized and straightened, because Shamrock Island has eroded significantly and in some places there is no longer a feature for the boundary to follow. The southern boundary of both units has been moved southward to account for accretion at the south end of Shamrock Island.

TX-19: STARVATION POINT UNIT. The landward boundary of the unit has been modified to account for the eroding shoreline and natural changes to the wetland/fastland interface. The boundary has been modified to include the entire sand-sharing system of the barrier feature around Starvation Point in the unit.

TX-21: KLEBERG POINT UNIT. The landward boundary of the unit has been modified to account for the eroding shoreline and changes to the wetland/fastland interface. The boundary has been modified to include the entire sand-sharing system of the barrier feature around Kleberg Point in the unit.

Florida

The Service's review found that Unit FL-87P (the only CBRS unit in Florida that was part of this review) had changed due to natural forces. The other CBRS units in Florida were not assessed as part of this review.

FL-87P: ANCLOTE KEY UNIT. The boundaries of the unit have been extended to the north, east, and south in order to capture the entire sand-sharing system of Anclote Key and to include a portion of Anclote Key that has accreted south outside of the existing boundaries.

Request for Comments

The CBRA requires consultation with the appropriate Federal, State, and local officials on the proposed CBRS boundary modifications to reflect changes that have occurred in the size or location of any CBRS unit as a result of natural forces (16 U.S.C. 3503(c)). We invite interested Federal, State, and local officials to review and comment on the draft maps for Delaware, South Carolina (including one unit that crosses the State boundary into North Carolina), Texas, and one unit in Florida. The Service is specifically notifying the following stakeholders concerning the availability of the draft maps and opportunity to provide comments on the proposed boundary modifications: The Chair and Ranking Member of the House of Representatives Committee on Natural Resources; the Chair and Ranking Member of the Senate Committee on Environment and Public Works; the members of the Senate and House of Representatives for the affected areas; the Governors of the affected areas, and other appropriate Federal, State, and local officials.

Federal, State, and local officials may submit written comments and accompanying data to the individual and location identified in the ADDRESSES section above. We will also accept digital Geographic Information System (GIS) data files that are accompanied by written comments. Comments regarding specific units should reference the appropriate CBRS unit number and unit name. Please note that boundary modifications through this process can only be made to reflect changes that have occurred in the size or location of any CBRS unit as a result of natural forces, voluntary additions to the CBRS, or additions of excess Federal property to the CBRS; other requests for changes to the CBRS will not be considered at this time. We must receive comments on or before the date listed in the DATES section of this document.

Availability of Draft Maps and Related Information

The draft maps and digital boundary data can be accessed and downloaded from the Service's Internet site: http://www.fws.gov/CBRA. The digital boundary data are available in shapefile format for reference purposes only. The digital boundaries are best viewed using the base imagery to which the boundaries were drawn; this information is printed in the title block of the draft maps. The Service is not responsible for any misuse or misinterpretation of the digital boundary data.

Interested parties may also contact the Service individual identified in the FOR FURTHER INFORMATION CONTACT section above to make arrangements to view the draft maps at the Service's Headquarters office. Interested parties who are unable to access the draft maps via the Internet or at the Service's Headquarters office may contact the Service individual identified in the FOR FURTHER INFORMATION CONTACT section above, and reasonable accommodations will be made to ensure the stakeholder's ability to view the draft maps.

Public Availability of Comments

Before including your address, phone number, email address, or other personal identifying information in your comment, you should be aware that your entire comment—including your personal identifying information—may be made publicly available at any time. While you can ask us in your comment to withhold your personal identifying information from public review, we cannot guarantee that we will be able to do so.

Gary Frazer,
Assistant Director for Ecological Services.

[FR Doc. 2013-21167 Filed 8-28-13; 8:45 am]

BILLING CODE 4310-55-P